DEPARTMENT OF ENERGY

Federal Energy Regulatory Commission

Combined Notice of Filings #1

Take notice that the Commission received the following electric corporate filings:

Docket Numbers: EC22-32-000.

Applicants: Tenaska Gateway Partners, Ltd.

Description: Application for Authorization Under Section 203 of the Federal Power Act of Tenaska Gateway Partners, Ltd.

Filed Date: 1/5/22.

Accession Number: 20220105-5236.

Comment Date: 5 p.m. ET 1/26/22.

Docket Numbers: EC22-33-000.

Applicants: FirstEnergy Transmission, LLC.

Description: Joint Application for Authorization Under Section 203 of the Federal Power Act of FirstEnergy Transmission, LLC, et al.

Filed Date: 1/5/22.

Accession Number: 20220105-5238.

Comment Date: 5 p.m. ET 1/26/22.

Take notice that the Commission received the following electric rate filings:

Docket Numbers: ER10-2488-023; ER13-1586-018; ER14-2871-017; ER15-463-016; ER15-621-016; ER15-622-016; ER16-72-012; ER16-182-012; ER16-902-009; ER17-47-009; ER17-48-010; ER18-47-008; ER18-2240-005; ER18-2241-005; ER19-426-005; ER19-427-005; ER19-1575-006; ER19-1660-005; ER19-1662-005; ER19-1667-005; ER20-71-005; ER20-72-005; ER20-75-005; ER20-76-007; ER20-77-005; ER20-79-005; ER21-1368-001; ER21-1369-002; ER21-1371-002; ER21-1373-003; ER21-1376-003; ER21-2782-001; ER22-149-001.

Applicants: Sagebrush Line, LLC, Sagebrush ESS, LLC, Sanborn Solar 1A, LLC, Edwards Solar 1A, LLC, Edwards Sanborn Storage II, LLC, Edwards Sanborn Storage I, LLC, Valley Center ESS, LLC, Voyager Wind IV Expansion, LLC, Painted Hills Wind Holdings, LLC, Oasis Plains Wind, LLC, Oasis Alta, LLC, Coachella Wind Holdings, LLC, Coachella Hills Wind, LLC, Terra-Gen VG Wind, LLC, Mojave 16/17/18 LLC, Mojave 3/4/5 LLC, Alta Oak Realty, LLC, LUZ Solar Partners IX, Ltd., LUZ Solar Partners VIII, Ltd., Garnet Wind, LLC, Yavi Energy, LLC, Voyager Wind II, LLC, Terra-Gen Mojave Windfarms, LLC, DifWind Farms LTD VI, Voyager Wind I, LLC, Cameron Ridge II, LLC, San Gorgonio Westwinds II—Windustries, LLC, Ridgetop Energy, LLC, Pacific Crest Power, LLC, San Gorgonio Westwinds II, LLC, Cameron Ridge, LLC, TGP Energy Management, LLC, Oasis Power Partners, LLC.

Description: Triennial Market Power Analysis for Southwest Region and Notice of Change in Status of Oasis Power Partners, LLC, et al.

Filed Date: 12/30/21.

Accession Number: 20211230-5331.

Comment Date: 5 p.m. ET 2/28/22.

Docket Numbers: ER20-2276-001.

Applicants: Moxie Freedom LLC.

Description: Notice of Non-Material Change in Status of Moxie Freedom LLC.

Filed Date: 1/6/22.

Accession Number: 20220106-5181.

Comment Date: 5 p.m. ET 1/27/22.

Docket Numbers: ER21-2652-002.

Applicants: Caddo Wind, LLC.

Description: Triennial Market Power Analysis for Southwest Power Pool Inc. Region of Caddo Wind, LLC.

Filed Date: 1/3/22.

Accession Number: 20220103-5494.

Comment Date: 5 p.m. ET 3/4/22.

Docket Numbers: ER22-774-000.

Applicants: PJM Interconnection, L.L.C.

Description: § 205(d) Rate Filing: Amendment to WMPA, SA No. 5665; Queue No. AF1-032 (amend) to be effective 5/28/2020.

Filed Date: 1/5/22.

Accession Number: 20220105-5201.

Comment Date: 5 p.m. ET 1/26/22.

Docket Numbers: ER22-775-000.

Applicants: Southwest Power Pool, Inc.

Description: § 205(d) Rate Filing: 3875 White Rock Wind East GIA to be effective 12/8/2021.

Filed Date: 1/6/22.

Accession Number: 20220106-5048.

Comment Date: 5 p.m. ET 1/27/22.

Docket Numbers: ER22-776-000.

Applicants: PJM Interconnection, L.L.C.

Description: § 205(d) Rate Filing: Amendment to WMPA, Service Agreement No. 5841; Queue No. AF2-151 to be effective 10/9/2020.

Filed Date: 1/6/22.

Accession Number: 20220106-5067.

Comment Date: 5 p.m. ET 1/27/22.

Docket Numbers: ER22-777-000.

Applicants: Sky River LLC.

Description: § 205(d) Rate Filing: SR and NSRE Second Amended and Restated Shared Facilities Agreement to be effective 1/7/2022.

Filed Date: 1/6/22.

Accession Number: 20220106-5074.

Comment Date: 5 p.m. ET 1/27/22.

Docket Numbers: ER22-778-000.

Applicants: Arizona Public Service Company.

Description: § 205(d) Rate Filing: Service Agreement Nos. 386 and 388—E&P Agreements between APS and AES to be effective 3/8/2022.

Filed Date: 1/6/22.

Accession Number: 20220106-5105.

Comment Date: 5 p.m. ET 1/27/22.

Docket Numbers: ER22-779-000.

Applicants: Duke Energy Carolinas, LLC.

Description: § 205(d) Rate Filing: DEC-New River NITSA SA No. 546 to be effective 1/1/2022.

Filed Date: 1/6/22.

Accession Number: 20220106-5126.

Comment Date: 5 p.m. ET 1/27/22.

Docket Numbers: ER22-780-000.

Applicants: Sky River LLC.

Description: § 205(d) Rate Filing: SR (Transmission) and Sky River Wind, LLC Shared Facilities Agreement to be effective 1/7/2022.

Filed Date: 1/6/22.

Accession Number: 20220106-5177.

Comment Date: 5 p.m. ET 1/27/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 6, 2022.
Debbie-Anne A. Reese,
Deputy Secretary.

[FR Doc. 2022-00427 Filed 1-11-22; 8:45 am]

BILLING CODE 6717-01-P